DEPARTMENT OF TRANSPORTATION

Federal Aviation Administration

14 CFR Part 39

[Docket No. FAA-2008-1311; Directorate Identifier 2007-NE-48-AD]

RIN 2120-AA64

Airworthiness Directives; Honeywell International Inc., T5313 and T5317 Series Turboshaft Engines

AGENCY: Federal Aviation Administration (FAA), Department of Transportation (DOT).

ACTION: Notice of proposed rulemaking (NPRM).

SUMMARY: The FAA proposes to adopt a new airworthiness directive (AD) for Honeywell International Inc., T5313 and T5317 series turboshaft engines. This proposed AD would require initial and repetitive visual inspections and initial and repetitive ultrasonic inspections. This proposed AD results from eight instances of cracks in combustion chamber housings (CCHs). Two of the instances resulted in an engine shutdown during flight. We are proposing this AD to detect cracks in the CCH, which could result in rupture of the CCH, leading to loss of engine power and damage to the helicopter.

DATES: We must receive any comments on this proposed AD by February 17, 2009.

ADDRESSES: Use one of the following addresses to comment on this proposed AD.

• Federal eRulemaking Portal: Go to http://www.regulations.gov and follow the instructions for sending your comments electronically.

• Mail: Docket Management Facility, U.S. Department of Transportation, 1200 New Jersey Avenue, SE., West Building Ground Floor, Room W12-140, Washington, DC 20590-0001.

• Hand Delivery: Deliver to Mail address above between 9 a.m. and 5 p.m., Monday through Friday, except Federal holidays.

• Fax: (202) 493-2251.

You can get the service information identified in this proposed AD from Honeywell International Inc., P.O. Box 52181, Phoenix, AZ 85072-2181, U.S.A.; telephone (800) 601-3099 (U.S.A.) or (602) 365-3099 (International), Web site: http://portal.honeywell.com/wps/portal/aero.

FOR FURTHER INFORMATION CONTACT: Robert Baitoo, Aerospace Engineer, Los Angeles Certification Office, FAA, Transport Airplane Directorate, 3960 Paramount Blvd., Lakewood, CA 90712-4137; e-mail: robert.baitoo@faa.gov; telephone (562) 627-5245; fax (562) 627-5210.

SUPPLEMENTARY INFORMATION:

Comments Invited

We invite you to send us any written relevant data, views, or arguments regarding this proposal. Send your comments to an address listed under ADDRESSES. Include “Docket No. FAA-2008-1311; Directorate Identifier 2007-NE-48-AD” in the subject line of your comments. We specifically invite comments on the overall regulatory, economic, environmental, and energy aspects of the proposed AD. We will consider all comments received by the closing date and may amend the proposed AD in light of those comments.

We will post all comments we receive, without change, to http://www.regulations.gov, including any personal information you provide. We will also post a report summarizing each substantive verbal contact with FAA personnel concerning this proposed AD. Using the search function of the Web site, anyone can find and read the comments in any of our dockets, including, if provided, the name of the individual who sent the comment (or signed the comment on behalf of an association, business, labor union, etc.). You may review the DOT's complete Privacy Act Statement in the Federal Register published on April 11, 2000 (65 FR 19477-78).

Examining the AD Docket

You may examine the AD docket on the Internet at http: //www.regulations.gov; or in person at the Docket Operations office between 9 a.m. and 5 p.m., Monday through Friday, except Federal holidays. The AD docket contains this proposed AD, the regulatory evaluation, any comments received, and other information. The street address for the Docket Operations office (telephone (800) 647-5527) is the same as the Mail address provided in the ADDRESSES section. Comments will be available in the AD docket shortly after receipt.

Discussion

We have received reports of eight instances of cracks developing in CCHs, part numbers (P/Ns) 1-130-610-05 and 1-130-610-12. Two of the instances resulted in an engine shutdown during flight. The cracks developed between the seam welds on the rear outer flange, in the angled bend area, forward of the fuel manifold mounting flange. Fatigue cracking in the “doubler detail” develops from the inside of the CCH, typically starting from corrosion pitting. There have been several instances in which a crack was found during maintenance activities or preflight inspection of the engine. In one instance, with a previously weld-repaired CCH (assumed to be a repair of a crack), additional fatigue cracks grew sufficiently to result in a loss of CCH integrity, subsequent in-flight engine shutdown, and significant airframe damage. A previously weld-repaired CCH has a high potential for additional cracks that might or might not be visible. This condition, if not corrected, could result in rupture of the CCH leading to loss of engine power and damage to the helicopter.

Relevant Service Information

We have reviewed and approved the technical contents of Honeywell International Inc. Alert Service Bulletin (ASB) T53-A0142, Revision 1, dated September 14, 2006. That ASB describes procedures for performing an initial and subsequent daily visual inspections of the CCH for cracks. We also approved Service Bulletin (SB) T53-0144, Revision 4, dated March 31, 2008, that describes procedures for performing an initial and repetitive ultrasonic inspection of the CCH for cracks.

Differences Between This AD and the Service Information

Honeywell International Inc. ASB T53-A0142, Revision 1, dated September 14, 2006, requires daily repetitive inspections, and allows the flight crew to perform them. This AD would allow intervals of 50 hours time-in-service between repetitive visual inspections, and allows appropriately certificated technicians only to perform the visual inspections. The ASB also requires removing a welded CCH before further flight. This proposed AD would require removing a welded CCH within 100 hours time-in-service after the visual inspection.

FAA's Determination and Requirements of the Proposed AD

We have evaluated all pertinent information and identified an unsafe condition that is likely to exist or develop on other products of this same type design. We are proposing this AD to detect cracks in the CCH, which could result in rupture of the CCH leading to loss of engine power and damage to the helicopter. You must use the service information described previously to perform the actions required by this AD.

Costs of Compliance

We estimate that this proposed AD would affect 100 engines installed on helicopters of U.S. registry. We also estimate that it would take about 3 work-hours per engine to perform the proposed actions, and that the average labor rate is $80 per work-hour. No parts are required. Based on these figures, we estimate the total cost of the proposed AD to U.S. operators to be $24,000.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed AD:

1. Is not a “significant regulatory action” under Executive Order 12866;

2. Is not a “significant rule” under the DOT Regulatory Policies and Procedures (44 FR 11034, February 26, 1979); and

3. Would not have a significant economic impact, positive or negative, on a substantial number of small entities under the criteria of the Regulatory Flexibility Act.

We prepared a regulatory evaluation of the estimated costs to comply with this proposed AD. You may get a copy of this summary at the address listed under ADDRESSES.

List of Subjects in 14 CFR Part 39

Air transportation, Aircraft, Aviation safety, Incorporation by reference, Safety.

The Proposed Amendment

Under the authority delegated to me by the Administrator, the Federal Aviation Administration proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

Honeywell International Inc. (Formerly AlliedSignal and Textron-Lycoming): Docket No. FAA-2008-1311; Directorate Identifier 2007-NE-48-AD.

Comments Due Date

(a) The Federal Aviation Administration (FAA) must receive comments on this airworthiness directive (AD) action by February 17, 2009.

Affected ADs

(b) None.

Applicability

(c) This AD applies to Honeywell International Inc. T5313B, T5317A, T5317A-1, T5317B, and T5317BCV turboshaft engines with combustion chamber housing (CCH), part numbers (P/Ns) 1-130-610-05, 1-130-610-12, and 1-130-610-17, installed. These engines are installed on, but not limited to, Bell 205 and 210 Series and Kaman K-1200 helicopters.

Unsafe Condition

(d) This AD results from eight instances of cracks in CCHs. Two of the instances resulted in an engine shutdown during flight. We are issuing this AD to detect cracks in the CCH, which could result in rupture of the CCH, leading to loss of engine power and damage to the helicopter.

Compliance

(e) You are responsible for having the actions required by this AD performed within the compliance times specified unless the actions have already been done.

Initial Visual Inspection

(f) For CCH, P/N 1-130-610-05 and 1-130-610-12, within 50 hours time-in-service (TIS) after the effective date of this AD, inspect the area between points A and B around the entire housing circumference in Figure 1 of this AD for weld repairs and cracks.

(1) If you find any cracks, replace the CCH before further flight. Honeywell International Inc. Alert Service Bulletin (ASB) T53-A0142, Revision 1, dated September 14, 2006, contains additional information on replacing the CCH.

(2) If you find any weld repairs, replace the CCH within 100 hours TIS after the visual inspection. Honeywell International Inc. ASB T53-A0142, Revision 1, dated September 14, 2006, contains additional information on replacing the CCH.

Repetitive Visual Inspection

(g) For CCH, P/N 1-130-610-05 and 1-130-610-12, inspect the area between points A and B around the entire housing circumference in Figure 1 of this AD for cracks within 50 hours time-since-last inspection. Honeywell International Inc. Standard Practices Manual 70-20-02, SP 1302, contains additional information on visual inspection.

(h) If you find any cracks, replace the CCH before further flight. Honeywell International Inc. ASB T53-A0142, Revision 1, dated September 14, 2006, contains additional information on replacing the CCH.

Initial Ultrasonic Inspection

(i) Perform an ultrasonic inspection on the CCH. Use Honeywell International Inc. Service Bulletin (SB) No. T53-0144, Revision 4, dated March 31, 2008, section 3. Accomplishment Instructions, to perform the ultrasonic inspection at the following compliance times.

(1) For CCH, P/N 1-130-610-05 and 1-130-610-12, within 500 hours TIS or next hot section inspection, whichever occurs first after the effective date of this AD, but not to exceed 6 months after the effective date of this AD.

(2) For CCH, P/N 1-130-610-17, perform at the first overhaul, but do not exceed 5,000 hours or 11,000 cycles, after the effective date of this AD, whichever occurs first.

Repetitive Ultrasonic Inspection

(j) Repeat the ultrasonic inspection on the CCH using Honeywell International Inc. SB No. T53-0144, Revision 4, dated March 31, 2008, section 3. Accomplishment Instructions, at the following compliance times:

(1) Within 1,200 flights, as defined as the cumulative number of landings, since the last inspection; or

(2) If the last inspection had unacceptable ultrasonic findings, within 200 flights after the last inspection to determine if the indication length increased.

Optional Terminating Action

(k) Replacing a CCH, P/N 1-130-610-05, 1-130-610-12, or 1-130-610-17, with a CCH, P/N 1-130-610-19 or 1-130-610R16, or an FAA-approved equivalent part, terminates the repetitive inspection requirements specified in paragraphs (g) and (i) of this AD.

Alternative Methods of Compliance

(l) The Manager, Los Angeles Aircraft Certification Office, has the authority to approve alternative methods of compliance for this AD if requested using the procedures found in 14 CFR 39.19.

Related Information

(m) Honeywell International Inc. ASB T53-A0142, Revision 1, dated September 14, 2006, SB No. T53-0144, Revision 4, dated March 31, 2008, and Standard Practices Manual 70-20-02, SP 1302, pertain to the subject of this AD. Contact Honeywell International Inc., P.O. Box 52181, Phoenix, AZ 85072-2181; telephone (800) 601-3099, Web site: http://portal.honeywell.com/wps/portal/aero, for a copy of this service information.

(n) Contact Robert Baitoo, Aerospace Engineer, Los Angeles Certification Office, FAA, Transport Airplane Directorate, 3960 Paramount Blvd., Lakewood, CA 90712-4137; e-mail: robert.baitoo@faa.gov; telephone (562) 627-5245; fax (562) 627-5210, for more information about this AD.

Issued in Burlington, Massachusetts, on December 8, 2008.
Peter A. White,
Assistant Manager, Engine and Propeller Directorate, Aircraft Certification Service.

[FR Doc. E8-29712 Filed 12-15-08; 8:45 am]

BILLING CODE 4910-13-P